DEPARTMENT OF ENERGY

Federal Energy Regulatory Commission

[Docket No. ER02-851-000]

Southern Company Services, Inc.; Notice of Comment Due Dates

August 9, 2002.

Take notice that, subsequent to the technical conference of August 7, 2002, the parties in this proceeding may file initial comments on or before August 29, 2002 and reply comments on or before September 12, 2002.

Linwood A. Watson, Jr.,
Deputy Secretary.

[FR Doc. 02-20734 Filed 8-14-02; 8:45 am]

BILLING CODE 6717-01-P